ENVIRONMENTAL PROTECTION AGENCY

40 CFR Parts 50 and 51

[EPA-HQ-OAR-2005-0159; FRL-8743-2]

RIN 2060-AP28

The Treatment of Data Influenced by Exceptional Events (Exceptional Event Rule): Revised Exceptional Event Data Flagging Submittal and Documentation Schedule for Monitoring Data Used in Designations for the 2008 Ozone NAAQS

AGENCY: Environmental Protection Agency (EPA).

ACTION: Correcting Amendments.

SUMMARY: The EPA issued a direct final rule on October 6, 2008, entitled, “The Treatment of Data Influenced by Exceptional Events (Exceptional Events Rule): Revised Exceptional Event Data Flagging Submittal and Documentation Schedule for Monitoring Data Used in Designations for the 2008 Ozone NAAQS.” This document makes a minor correction to the Exceptional Events Rule to correct typographical errors in the technical notation of the ozone standard contained in the preamble and regulatory text for the rule.

DATES: Effective Date: This document is effective on December 22, 2008.

FOR FURTHER INFORMATION CONTACT: For questions regarding these corrections, contact Thomas E. Link, Air Quality Planning Division, Office of Air Quality Planning and Standards, Mail Code C539-04, Environmental Protection Agency, Research Triangle Park, North Carolina 27711; telephone number: 919-541-5456; fax number: 919-541-0824; e-mail address: link.tom@epa.gov.

SUPPLEMENTARY INFORMATION:

Background

The EPA issued “The Treatment of Data Influenced by Exceptional Events (Exceptional Event Rule): Revised Exceptional Event Data Flagging Submittal and Documentation Schedule for Monitoring Data Used in Designations for the 2008 Ozone NAAQS” as a direct final rule on October 6, 2008, 73 FR 58042. The direct final rule revises the schedule for the flagging and submission of documentation of data impacted by exceptional events that may be used for designations under the 2008 ozone national ambient air quality standards (NAAQS). For a detailed description of the ozone NAAQS and the Exceptional Events Rule, please see the rulemaking actions which are available at EPA's Web Sites at http://www.epa.gov/groundlevelozone/actions.html and http://www.epa.gov/EPA-AIR/2008/October/Day-06/a23520.htm and also in the Federal Register at 73 FR 16436 and 73 FR 58042

Need for Correction

As published, the final preamble and regulation contains minor errors which may prove to be misleading and are in need of clarification. EPA finds that there is good cause to make these corrections without providing for notice and comments because neither notice nor comment is necessary and would not be in the public interest due to the nature of the corrections which are minor, technical and do not change the obligations already existing in the rule. EPA finds that the corrections are merely correcting identifying information that references the previously promulgated Ozone NAAQS.

Corrections of Publication

In the preamble to the direct final rule for “The Treatment of Data Influenced by Exceptional Events (Exceptional Event Rule): Revised Exceptional Event Data Flagging Submittal and Documentation Schedule To Support Initial Area Designations for the 2008 Ozone NAAQS,” October 6, 2008, 73 FR 58042, EPA is correcting the preamble text at 73 FR 58044, column 2, which refers to the ozone NAAQS in terms of “pounds per billion (ppb)” to “parts per million (ppm)” to accurately reflect the ozone NAAQS.

Similarly, correction is also being made at 73 FR 58045 in “TABLE 1—SCHEDULE FOR EXCEPTIONAL EVENT FLAGGING AND DOCUMENTATION SUBMISSION FOR DATA TO BE USED IN DESIGNATIONS DECISIONS FOR NEW OR REVISED NAAQS” to change the term “(ppb)” to “(ppm)” to accurately reflect the ozone NAAQS.

In the regulatory text, EPA is also correcting the inadvertent minor error in § 50.14 by revising paragraph (c)(2)(v) to correct the text in “Table 1” by changing the term “(ppb)” to “(ppm).”

Dated: November 17, 2008.
Stephen L. Johnson,
Administrator.

For the reasons set forth in the preamble, part 50 of chapter I of title 40 of the Code of Federal Regulations is amended as follows:

PART 50—[AMENDED]

1. The authority citation for part 50 continues to read as follows:

Authority: 42 U.S.C. 7401 et seq.

2. Section 50.14 is amended by revising paragraph (c)(2)(v) to read as follows:

Subpart A—General Provisions

§ 50.14 Treatment of air quality monitoring data influenced by exceptional events.

* * * * *

(c) * * *

(2) * * *

(v) When EPA sets a NAAQS for a new pollutant or revises the NAAQS for an existing pollutant, it may revise or set a new schedule for flagging exceptional event data, providing initial data descriptions and providing detailed data documentation in AQS for the initial designations of areas for those NAAQS: Table 1 provides the schedule for submission of flags with initial descriptions in AQS and detailed documentation and the schedule shall apply for those data which will or may influence the initial designation of areas for those NAAQS. EPA anticipates revising Table 1 as necessary to accommodate revised data submission schedules for new or revised NAAQS.

Table 1—Schedule for Exceptional Event Flagging and Documentation Submission for Data to be Used in Designations Decisions for New or Revised NAAQS
NAAQS pollutant/standard/(level)/promulgation date | Air quality data collected for calendar year | Event flagging & initial description deadline | Detailed documentation submission deadline
PM2.5/24-Hr Standard (35 μg/m³) Promulgated October 17, 2006 | 2004-2006 | October 1, 2007 ᵃ | April 15, 2008 ᵃ.
Ozone/8-Hr Standard (0.075 ppm) Promulgated March 12, 2008 | 2005-2007 | December 31, 2008 ᵇ | March 12, 2009 ᵇ.
| 2008 | March 12, 2009 ᵇ | March 12, 2009 ᵇ.
| 2009 | January 8, 2010 ᵇ | January 8, 2010 ᵇ.
ᵃ These dates are unchanged from those published in the original rulemaking, and are shown in this table for informational purposes.
ᵇ Indicates change from general schedule in 40 CFR 50.14.
Note: EPA notes that the table of revised deadlines only applies to data EPA will use to establish the final initial designations for new or revised NAAQS. The general schedule applies for all other purposes, most notably, for data used by EPA for redesignations to attainment.

* * * * *

[FR Doc. E8-27741 Filed 11-20-08; 8:45 am]

BILLING CODE 6560-50-P